DEPARTMENT OF HEALTH AND HUMAN SERVICES

Health Resources and Services Administration

Agency Information Collection Activities: Proposed Collection: Public Comment Request; Information Collection Request Title: Rural Health Care Coordination Program Performance Improvement Measures, OMB No. 0906-0024—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than March 18, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Rural Health Care Coordination Program Performance Improvement Measures, OMB No. 0906-0024—Revision

Abstract: The Rural Health Care Coordination (Care Coordination) Program is authorized under 42 U.S.C. 254c(e) (Section 330A(e) of the Public Health Service Act) to promote rural health care services outreach by improving and expanding delivery of health care services through comprehensive care coordination strategies addressing a primary focus area: (1) heart disease, (2) cancer, (3) chronic lower respiratory disease, (4) stroke, or (5) maternal health. This authority permits the Federal Office of Rural Health Policy to award grants to eligible entities to promote rural health care services outreach by improving and expanding the delivery of health care services to include new and enhanced services in rural areas, through community engagement and evidence-based or innovative, evidence-informed models. HRSA currently collects information about Care Coordination Program grants using an OMB-approved set of performance measures and seeks to revise that approved collection. The proposed changes to the information collection are a result of award recipient feedback and information gathered from the previously approved Care Coordination Program measures.

Need and Proposed Use of the Information: This program needs measures that will enable HRSA to provide aggregate program data required by Congress under the Government Performance and Results Act of 1993. These measures cover the principal topic areas of interest to HRSA, including: (1) access to care, (2) population demographics and social determinants of health, (3) care coordination and network infrastructure, (4) sustainability, (5) leadership and workforce, (6) electronic health record, (7) telehealth, (8) utilization, and (9) clinical measures/improved outcomes. All measures will evaluate HRSA's progress toward achieving its goals.

The proposed changes include additional components under “Access to Care” and “Population Demographic” sections that seek information about target population, counties served, direct services, and social determinants of health such as transportation barriers, housing, and food insecurity. Questions about Health Information Technology and Telehealth have been modified to reflect an updated telehealth definition and to improve understanding of how these important technologies are affecting HRSA award recipients. Sections previously titled “Care Coordination” and “Quality Improvement” were consolidated into one section titled “Care Coordination and Network Infrastructure” to improve clarity and ease of reporting for respondents. Part of the previous “Care Coordination” section was revised to include a section titled “Utilization” to improve clarity of instructions for related measures. Previously titled “Staffing” section was revised to “Leadership and Workforce Composition” to improve measure clarity and reduce overall burden for respondents by consolidating measures from previously separate “Staffing,” “Quality Improvement,” and “Care Coordination” sections. Revised National Quality Forum and Centers for Medicare & Medicaid Services measures were also included to allow uniform collection efforts throughout the Federal Office of Rural Health Policy.

The total number of measures has increased from 40 to 48 measures since the previous information collection request. Of the 48 measures, 11 measures are designated as “optional” or “complete as applicable.” The measures within Section 6: “Electronic Health Record” are noted as optional to grantees. In Section 9: “Clinical Measures/Improved Health Outcomes,” grantees are only required to respond to Clinical Measure 1: Care Coordination. Grantees can choose to provide data for Clinical Measures 2-10 if applicable to their projects. The total number of responses has remained at 10 since the previous information collection request. The new Care Coordination Program grant cycle maintained the same number of award recipients and number of respondents.

Likely Respondents: The respondents would be recipients of the Rural Health Care Coordination Program grants.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Care Coordination Program Performance Improvement Measures | 10 | 1 | 10 | 3.5 | 35
Total | 10 | 1 | 10 | 3.5 | 35

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-00818 Filed 1-16-24; 8:45 am]

BILLING CODE 4165-15-P